DEPARTMENT OF COMMERCE

National Oceanic and Atmospheric Administration

RIN 0648-XH091

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Tilefish Advisory Panel and Tilefish Committee will hold a public meeting.

DATES: The meeting will be held on Thursday, August 1, 2019, from 9 a.m. to 11 a.m. For agenda details, see SUPPLEMENTARY INFORMATION.

ADDRESSES: The meeting will be held via webinar with a telephone-only connection option. Details on the proposed agenda, webinar listen-in access, and briefing materials will be posted at the MAFMC's website: www.mafmc.org.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The Council has committed to funding the first year of a long-term golden tilefish fishery independent survey. The first survey will be conducted next year in waters off New York to the Virginia/North Carolina line.

The purpose of this meeting is for the Advisory Panel and Committee to discuss the overview of the survey and identify potential funding options for subsequent surveys.

Special Accommodations

The meeting is physically accessible to people with disabilities. Requests for sign language interpretation or other auxiliary aid should be directed to M. Jan Saunders, (302) 526-5251, at least 5 days prior to the meeting date.

Dated: July 9, 2019.
Tracey L. Thompson,
Acting Deputy Director, Office of Sustainable Fisheries, National Marine Fisheries Service.

[FR Doc. 2019-14898 Filed 7-12-19; 8:45 am]

BILLING CODE 3510-22-P